DEPARTMENT OF TRANSPORTATION

National Highway Traffic Safety Administration

[Docket No. NHTSA-2021-0013]

Agency Information Collection Activities; Notice and Request for Comment; Automated Driving Systems 2.0: A Vision for Safety

AGENCY: National Highway Traffic Safety Administration (NHTSA), Department of Transportation (DOT).

ACTION: Notice and request for public comment on an extension of a currently-approved information collection.

SUMMARY: The National Highway Traffic Safety Administration (NHTSA) invites public comments about our intention to request approval from the Office of Management and Budget (OMB) for an extension of a currently-approved information collection. Before a Federal agency may collect certain information from the public, it must receive approval from OMB. Under procedures established by the Paperwork Reduction Act of 1995, before seeking OMB approval, Federal agencies must solicit public comment on proposed collections of information, including extensions and reinstatements of previously approved collections. This document describes a collection of information for which NHTSA intends to seek OMB extension approval, titled “Automated Driving Systems 2.0: A Vision for Safety” and identified by OMB Control Number 2127-0723, which is currently approved through May 31, 2021. The burden hour calculations have been adjusted to reflect a reduction in burden as well as a reduction in the frequency of response resulting in a total annual burden hour reduction from 86,100 hours to 12,000 hours.

DATES: Comments must be submitted on or before May 10, 2021.

ADDRESSES: You may submit comments using any of the following methods:

• Electronic submissions: Go to http://www.regulations.gov. Follow the online instructions for submitting comments.

• Fax: (202) 493-2251.

• Mail: Docket Management, U.S. Department of Transportation, 1200 New Jersey Ave. SE, West Building, Room W12-140, Washington, DC 20590.

• Hand Delivery: 1200 New Jersey Avenue SE, West Building Ground Floor, Room W12-140, Washington, DC, between 9 a.m. and 5 p.m., Monday through Friday, except Federal holidays. Telephone (202) 366-9322.

Instructions: Each submission must include the Agency name and the Docket number identified at the beginning of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov or the street address listed above. Follow the online instructions for accessing the dockets via internet.

FOR FURTHER INFORMATION CONTACT: For additional information or access to background documents, contact Ms. Debbie Sweet, NHTSA, 1200 New Jersey Avenue SE, Washington, DC 20590; Telephone (202) 366-7179; Fax: (202) 366-2106; email address: Debbie.Sweet@dot.gov. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must request public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the extension of the following collection of information for which the agency is seeking approval from OMB.

Title: Automated Driving Systems 2.0: A Vision for Safety.

Type of Request: Extension of a currently-approved information collection.

OMB Control Number: 2127-0723.

Form Number: None.

Type of Review Requested: Regular.

Requested Expiration Date of Approval: Three years from date of approval.

Summary of the collection of Information: In September 2017, NHTSA published a policy document titled, Automated Driving Systems 2.0: A Vision for Safety (ADS 2.0). Recognizing the potential that Automated Driving Systems (ADSs) have to enhance safety and mobility, this policy document set out an approach to enable the safe deployment of Automated Driving Systems (SAE Automation Levels 3 through 5—Conditional, High, and Full Automation Systems as defined in SAE J3016).¹

¹ For more information about SAE J3016, see https://www.sae.org/standards/content/j3016_201806.

Consistent with its statutory purpose to reduce traffic crashes and deaths and injuries resulting from traffic accidents,² NHTSA has recommended disclosure of information via a Voluntary Safety Self-Assessment (VSSA) related to ADS technologies by vehicle manufacturers and other entities as described in ADS 2.0. In the section of ADS 2.0 titled, “Voluntary Guidance for Automated Driving Systems” (hereafter referred to as “Voluntary Guidance”), NHTSA recommended that manufacturers and other entities assess their ADS-equipped vehicle against specific safety elements, summarize that assessment, and then voluntarily disclose that summary to the public.³ The Voluntary Guidance outlines recommended best practices, many of which should be commonplace in the industry, for the safe pre-deployment design, development, and testing of ADSs prior to commercial sale or operation on public roads.

² 49 U.S.C. 30101.

³ https://www.nhtsa.gov/sites/nhtsa.dot.gov/files/documents/13069a-ads2.0_090617_v9a_tag.pdf.

Description of the Need for the Information and Proposed Use of the Information: To assist States and the public in understanding how safety is being considered by manufacturers and other entities developing and testing ADSs, NHTSA has encouraged disclosures that aid in that mission. The burden estimates contained in this notice are based on the Agency's understanding of the ADS market and the time associated with generating a self-assessment and voluntarily making a summary of that self-assessment public. The estimates in this notice are adjustments from the previous information collection request (ICR) demonstrating a decrease in the burden-hour estimate.

The manner by which NHTSA encourages ADS manufacturers and other entities to disclose information is through a VSSA. The VSSA summarizes how the manufacturer or other entity has considered the safety elements contained in the Voluntary Guidance as shown below:

• System Safety

• Operational Design Domain

• Object and Event Detection and Response

• Fallback (Minimal Risk Condition)

• Validation Methods

• Human Machine Interface

• Vehicle Cybersecurity

• Crashworthiness

• Post-Crash ADS Behavior

• Data Recording

• Consumer Education and Training

• Federal, State and Local Laws

The Agency believes the work associated with consideration of the safety element in the Voluntary Guidance to be an extension of good and safe engineering practices already in place. It therefore believes that manufacturers and other entities will have access to all the information needed to craft a VSSA that discusses how the safety elements were considered and, if they choose, release a summary of that assessment publicly. Of the manufacturers and other entities who voluntarily disclose this information, NHTSA anticipates that most manufacturers and other entities will post the VSSAs online. As of December 28, 2020, NHTSA was aware of 26 VSSAs, all available online.

The safety elements are fully described in the Voluntary Guidance section (section 1) of ADS 2.0, as is the VSSA. The VSSA (including the public release of that summary assessment) is intended to communicate to the public (particularly States and consumers) that entities are (1) considering the safety aspects of ADSs; (2) communicating and collaborating with DOT; (3) encouraging the self-establishment of industry safety norms for ADSs; and (4) building public trust, acceptance, and confidence through transparent testing and deployment of ADSs.

Affected Public: Entities involved in the testing and deployment of ADSs.

Estimated Number of Respondents: 20.

Frequency: On Occasion (based on information from the current information collection, respondents are expected to respond, on average, once every three years).

Estimated Total Annual Burden Hours: 12,000 hours.

NHTSA is using the number of entities that have received permits from the State of California as surrogate for the number of respondents that may choose to develop and issue a VSSA. As of December 28, 2020, California has cumulatively issued permits to 58 entities to test Automated Driving Systems with drivers present, five of those entities also received permits to test without a driver present, and one entity (included on both other lists) has a permit to deploy.⁴ At the onset of the current information collection, California had issued permits to 45 entities as of November 16, 2017, but NHTSA had expected the number to grow to 60 entities within the three years of the information collection, assuming an addition of new entrants. For that reason, the burden hours and cost were calculated based on 60 respondents. NHTSA expects the number of potential respondents to remain at approximately 60 given the coordinated efforts of some companies on the list, the departure of some of those entities from the industry (departures were not prevalent in 2017 as the industry was new), and accounting for new entrants. As a point of reference, since the previous ICR was approved, NHTSA is aware of 26 published VSSAs. Given that only 26 VSSAs have been published in three years compared to the 58 actively-permitted entities in California, NHTSA believes that 60 respondents is an appropriate high-end for total respondents. However, based on observations of the current information, NHTSA estimates that respondents will only produce and disclose a new VSSA once every three years. Therefore, NHTSA has revised its burden calculations to reflect estimates based on 20 respondents each year.

⁴ https://www.dmv.ca.gov/portal/vehicle-industry-services/autonomous-vehicles/autonomous-vehicle-testing-permit-holders/.

Components of the Voluntary Guidance in ADS 2.0 and public disclosure of the VSSA have not changed since release in 2017. NHTSA expects the industry burden of addressing safety elements in the Voluntary Guidance to be comprised of efforts entities would already incur in normal business operation and existing documentation. While the previous ICR calculated burden hours associated with a potential increase in analysis and review in order to develop the VSSA, NHTSA has since determined there to be no increased documentation citing how an entity addressed the safety elements in the Voluntary Guidance. NHTSA does not believe that any entity is documenting its safety efforts solely for the purpose of the VSSA and public disclosure. Therefore, NHTSA reduced the estimation of burden hours by 835 burden hours per respondent per year from the previous ICR.

Development and disclosure of a VSSA is expected to involve burden for format, content, and summary, varying by safety element. NHTSA estimates that each entity will spend approximately 600 hours to develop and disseminate a VSSA. This estimate of burden is comprised of efforts to transmit information from the existing format (520 hours for development) into a summary format that would be consumable by the public, including data translation, analysis, and discussion of traditionally technical information (80 hours to summarize).

The total estimated burden hours for a single VSSA is calculated as 600 hours for each of the 20 respondents. The total burden hours per year is estimated at 12,000 hours, a reduction from the 86,100 hours in the previous ICR.

In summary, NHTSA estimates the total burden associated with disclosure recommendations via a VSSA would be 600 hours per respondent with 20 respondents submitting information each year. The frequency of responding is once every three years; therefore, NHTSA estimates there will be a total of 60 unique responders over the course of the next three years.

The burden hours associated with development of a VSSA are detailed in the tables below.

Table 1—Burden Hours Estimates for VSSA, per Safety Element
Safety element in voluntary guidance | Burden hours for VSSA development | Burden hours for VSSA summary
A. System Safety | 20 | 10
B. Operational Design Domain | 20 | 5
C. Object and Event Detection and Response | 40 | 5
D. Fallback | 80 | 10
E. Validation Methods | 80 | 10
F. Human Machine Interface | 20 | 5
G. Vehicle Cybersecurity | 20 | 5
H. Crashworthiness | 20 | 5
I. Post-Crash ADS Behavior | 20 | 5
J. Data Recording | 80 | 10
K. Consumer Education and Training | 40 | 5
L. Federal, State, and Local Laws | 80 | 5
Total Burden Hours Per ADS | 520 | 80

Table 2—Calculation of Annual Burden Hours
Estimated Number of Respondents Annually | 20
Estimated Burden Hours for Voluntary Assessment Development | 520 hours
Estimated Burden Hours for Summarizing Information | 80 hours
Total Burden Hours per Respondent | 600 hours
Total Estimated Burden Hours for Industry per Year | 12,000 hours

NHTSA estimates the hourly cost associated with preparing VSSAs to be $97.36 ⁵ per hour using the Bureau of Labor Statistics' mean hourly wage estimate for architectural and engineering managers in the motor vehicle manufacturing industry (Standard Occupational Classification #11-9041). Therefore, the total estimated annual burden to each respondent is $58,416 (600 hours × $97.36 = $58,416). Therefore, the total estimated labor costs to all respondents to this collection is $1,168,320.

⁵ The hourly wage is estimated to be $68.35 per hour. National Industry-Specific Occupational Employment and Wage Estimates NAICS 336100—Motor Vehicle Manufacturing, May 2019, https://www.bls.gov/oes/current/naics4_336100.htm, last accessed June 30, 2020. The Bureau of Labor Statistics estimates that wages represent 70.2 percent of total compensation to private workers, on average. Therefore, NHTSA estimates the total hourly compensation cost to be $97.36.

Estimated Total Annual Burden Cost: NHTSA does not anticipate any further burden to respondents beyond the labor costs associated with the burden hours.

Public Comments Invited: You are asked to comment on any aspect of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Cem Hatipoglu,
Associate Administrator for Vehicle Safety Research.

[FR Doc. 2021-04877 Filed 3-8-21; 8:45 am]

BILLING CODE 4910-59-P